SMALL BUSINESS ADMINISTRATION

SBA Investment Capital Advisory Committee Meeting

AGENCY: U.S. Small Business Administration.

ACTION: Notice of Federal Advisory Committee meeting.

SUMMARY: The U.S. Small Business Administration (SBA) will hold the inaugural meeting of the SBA Investment Capital Advisory Committee on Wednesday, October 25, 2023. Members will convene as an independent source of advice and recommendations to SBA on matters relating to institutional investment market trends, innovation, and policy impacting small businesses' ability to access patient investment capital. The meeting will be in person for members and streamed live to the public.

DATES: Wednesday October 25, 2023, from 9 a.m. to 3 p.m. Eastern Time (ET).

ADDRESSES: The Investment Capital Advisory Committee will meet at the SBA Headquarters Building located at 409 3rd Street SW, Washington, DC 20416 and the meeting will be live streamed for the public. Register at https://bit.ly/ICAC-Oct23.

FOR FURTHER INFORMATION CONTACT: Jennifer Shieh, Designated Federal Officer, Office of Investment and Innovation, SBA, 409 3rd Street SW, Washington, DC 20416, (202) 539-1448 or ICAC@sba.gov. The meeting will be live streamed to the public, and anyone wishing to submit questions to the SBA Investment Capital Advisory Committee can do so by submitting them via email to ICAC@sba.gov. Individuals who require an alternative aid or service to communicate effectively with SBA should email the point of contact listed above and provide a brief description of their preferred method of communication.

SUPPLEMENTARY INFORMATION: Pursuant to section 10(a)(2) of the Federal Advisory Committee Act (5 U.S.C., Appendix 2), SBA announces the inaugural meeting of the SBA Investment Capital Advisory Committee (the “ICAC”). The ICAC is tasked with providing advice, insights, and recommendations to SBA on matters broadly related to facilitating greater access and availability of patient investment capital for small business; promoting greater awareness of SBA Investment and Innovation division programs and services; cultivating greater public-private engagement, cooperation, and collaboration; developing and/or evolving SBA programs and services to address long-term capital access gaps faced by small businesses and the investment managers that seek to support them. The final agenda for the meeting will be posted on the ICAC website at https://www.sba.gov/about-sba/organization/sba-initiatives/investment-capital-advisory-committee prior to the meeting. Copies of the meeting minutes will be available by request within 90 days of the meeting date.

Public Comment

Any member of the public may submit pertinent questions and comments concerning ICAC affairs at any time before or after the meeting, and participate in the livestreamed meeting of the SBA Investment Capital Advisory Committee on October 25. Comments may be submitted to Jennifer Shieh at ICAC@sba.gov. Those wishing to participate live are encouraged to register by or before October 23, 2023, using the registration link provided above. Advance registration for is strongly encouraged.

Dated: October 6, 2023.
Bailey G. DeVries,
Associate Administrator, Office of Investment and Innovation.

[FR Doc. 2023-22640 Filed 10-12-23; 8:45 am]

BILLING CODE 8026-09-P